DEPARTMENT OF VETERANS AFFAIRS

Advisory Committee on Minority Veterans, Notice of Meeting

The Department of Veterans Affairs (VA) gives notice under the Federal Advisory Committee Act, 5. U.S.C. ch.10, that the Advisory Committee on Minority Veterans will virtually meet on September 28, 2023 via Microsoft Teams. The meeting sessions will begin, and end as follows:

Dates | Times
September 28, 2023 | 11:00 a.m.-2:30 p.m.—Eastern Standard Time (EST).

This meeting is open to the public.

The purposes of the Committee is to advise the Secretary of Veterans Affairs with respect to the administration of benefits by VA for Veterans who are minority group members, by reviewing reports and studies on compensation, health care, rehabilitation, outreach and other benefits and services administered by the Department.

On September 28, the Committee will receive briefings and updates from the VA Deputy Chief of Staff, Center for Minority Veterans, and Board of Veterans Appeals. The Committee will receive public comments from 1:45 p.m. to 2:00 p.m. EST. The Committee will conduct an after-action review.

Individuals who wish to provide public comment are invited to submit a 1-2-page summary of their comments no later than September 21, 2023 for inclusion in the official meeting record. Members of the public may also submit written statements for the Committee's review to Mr. Dwayne Campbell, at Dwayne.Campbell3@va.gov.

To access the Microsoft Teams meeting, dial the number shown here: 1 872-701-0185, 886289631# Phone Conference ID: 886 289 631#.

Any member of the public seeking additional information should contact Mr. Dwayne Campbell or Mr. Ronald Sagudan at (202) 461-6191.

Dated: August 28, 2023.
Jelessa M. Burney,
Federal Advisory Committee Management Officer.

[FR Doc. 2023-18884 Filed 8-30-23; 8:45 am]

BILLING CODE P